DEPARTMENT OF TRANSPORTATION

Federal Aviation Administration

14 CFR Part 39

[Docket No. FAA-2006-25089; Directorate Identifier 2006-NM-091-AD; Amendment 39-14873; AD 2007-01-02]

RIN 2120-AA64

Airworthiness Directives; McDonnell Douglas Model MD-11 and -11F Airplanes

AGENCY: Federal Aviation Administration (FAA), Department of Transportation (DOT).

ACTION: Final rule.

SUMMARY: The FAA is superseding an existing airworthiness directive (AD), which applies to certain McDonnell Douglas Model MD-11 and -11F airplanes. That AD currently requires an initial general visual inspection of the power feeder cables of the integrated drive generator (IDG) and the fuel feed lines of engine pylons No. 1 and No. 3 on the wings for proper clearance and damage; corrective actions if necessary; and repetitive general visual inspections and a terminating action for the repetitive inspections. This new AD requires the existing actions, and for certain airplanes, this AD requires installation of new clamps on the power feeder cables of the IDG of engine pylons No. 1 and No. 3. This AD results from reports of IDG power feeder cables riding against structure and fuel lines in the No. 1 and No. 3 pylons. We are issuing this AD to prevent potential chafing of the power feeder cables of the IDG in engine pylons No. 1 and No. 3 on the wings, and consequent arcing on the fuel lines in the engine pylons and possible fuel fire.

DATES: This AD becomes effective February 14, 2007.

The Director of the Federal Register approved the incorporation by reference of certain publications listed in the AD as of February 14, 2007.

On February 24, 2004 (69 FR 2657, January 20, 2004), the Director of the Federal Register approved the incorporation by reference of Boeing Alert Service Bulletin MD11-54A011, Revision 02, dated May 31, 2002.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Brett Portwood, Aerospace Engineer, Systems and Equipment Branch, ANM-130L, FAA, Los Angeles Aircraft Certification Office, 3960 Paramount Boulevard, Lakewood, California 90712; telephone (562) 627-5350; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-01-17, amendment 39-13431 (69 FR 2657, January 20, 2004). The existing AD applies to certain McDonnell Douglas Model MD-11 and -11F airplanes. That NPRM was published in the Federal Register on June 21, 2006 (71 FR 35578). That NPRM proposed to continue to require the existing actions, and for certain airplanes, the NPRM proposed to require installation of new clamps on the power feeder cables of the integrated drive generator (IDG) of engine pylons No. 1 and No. 3.

Comments

We provided the public the opportunity to participate in the development of this AD. We have considered the comments that have been received on the NPRM.

Request to Incorporate by Reference Certain Service Information

One commenter, the Modification and Replacement Parts Association (MARPA), states that if a service document is used as a mandatory element of compliance it should not simply be referenced, but should be incorporated into the regulatory document.

We understand MARPA's comment concerning incorporation by reference. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, they do not lose their copyright protection. For that reason, we advise the public to contact the manufacturer to obtain copies of the referenced service information.

Request To Publish Service Information

This same commenter, MARPA, also requests that service documents referenced in ADs be made available to the public by publishing the service documents in either the Federal Register or the Docket Management System (DMS). MARPA states that incorporation by reference was authorized to reduce the volume of material published in the Federal Register. MARPA contends that, with service information readily available in electronic formats, it is no longer necessary to have the high concern for brevity.

In regard to the commenter's request that service documents be made available to the public by publication in the Federal Register, we acknowledge that incorporation by reference was authorized to reduce the volume of material published in the Federal Register and the Code of Federal Regulations. However, as specified in the Federal Register Document Drafting Handbook, the Director of the OFR decides when an agency may incorporate material by reference. As the commenter is aware, the OFR files documents for public inspection on the workday before the date of publication of the rule at its office in Washington, DC. As stated in the Federal Register Document Drafting Handbook, when documents are filed for public inspection, anyone may inspect or copy file documents during the OFR's hours of business. Further questions regarding publication of documents in the Federal Register or incorporation by reference should be directed to the OFR.

In regards to the commenter's request to post service bulletins on the Department of Transportation's DMS, we are currently in the process of reviewing issues surrounding the posting of service bulletins on the DMS as part of an AD docket. Once we have thoroughly examined all aspects of this issue and have made a final determination, we will consider whether our current practice needs to be revised. No change to the final rule is necessary in response to this comment.

Conclusion

We have carefully reviewed the available data, including the comments that have been submitted, and determined that air safety and the public interest require adopting the AD as proposed.

Costs of Compliance

There are about 195 airplanes of the affected design in the worldwide fleet. This AD will affect about 98 Model MD-11 and -11F airplanes of U.S. registry.

The inspections that are required by AD 2004-01-17 and retained in this AD take about 1 work hour per airplane, at an average labor rate of $80 per work hour. Based on these figures, the estimated cost of the currently required actions is $80 per airplane, per inspection cycle.

The new required inspection will take about 1 work hour per airplane, at an average labor rate of $80 per work hour. Based on these figures, the estimated cost of the new inspections required in this AD for U.S. operators is $7,840, or $80 per airplane, per inspection cycle.

The new required terminating action will take approximately 4 work hours per airplane to accomplish, at an average labor rate of $80 per work hour. The vendor states that it will supply the parts at no cost to the operator. Based on these figures, the estimated cost of the terminating action specified in this AD for U.S. operators is $31,360, or $320 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13431 (69 FR 2657, January 20, 2004) and by adding the following new airworthiness directive (AD):

2007-01-02 McDonnell Douglas: Amendment 39-14873. Docket No. FAA 2006-25089; Directorate Identifier 2006-NM-091-AD.

Effective Date

(a) This AD becomes effective February 14, 2007.

Affected ADs

(b) This AD supersedes AD 2004-01-17.

Applicability

(c) This AD applies to McDonnell Douglas Model MD-11 and -11F airplanes, as identified in Boeing Alert Service Bulletin MD11-54A011, Revision 3, dated November 9, 2005; certificated in any category.

Unsafe Condition

(d) This AD results from reports of integrated drive generator (IDG) power feeder cables riding against structure and fuel lines in the No. 1 and No. 3 pylons. We are issuing this AD to prevent potential chafing of the power feeder cables of the IDG in engine pylons No. 1 and No. 3 on the wings, and consequent arcing on the fuel lines in the engine pylons and possible fuel fire.

Compliance

(e) You are responsible for having the actions required by this AD performed within the compliance times specified, unless the actions have already been done.

Restatement of Requirements of AD 2004-01-17

Note 1: Boeing has issued Information Notice MD11-54A011 R02 IN 02, dated July 11, 2002. The information notice informs operators of a typographical error for the string tie part number (P/N) specified in Boeing Alert Service Bulletin MD11-54A011, Revision 02, dated May 31, 2002. The service bulletin specifies string tie P/N 190L0F21G/A; the correct P/N is 109 LOF 21G/A.

Initial Inspection

(f) Within 30 days after February 24, 2004 (the effective date of AD 2004-01-17), do a general visual inspection of the power feeder cables of the IDG and the fuel feed lines of engine pylons No. 1 and No. 3 on the wings for proper clearance and damage, per Boeing Alert Service Bulletin MD11-54A011, Revision 02, dated May 31, 2002; or Boeing Alert Service Bulletin MD11-54A011, Revision 3, dated November 9, 2005.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Condition 1: Proper Clearance and No Damage

(g) If proper clearance exists and no damage is detected during any inspection required by paragraph (f) of this AD, do the action(s) specified in paragraphs (g)(1), (g)(2), and (g)(3) of this AD, as applicable, per Boeing Alert Service Bulletin MD11-54A011, Revision 02, dated May 31, 2002; or Boeing Alert Service Bulletin MD11-54A011, Revision 3, dated November 9, 2005.

(1) For Group 1 and Group 2 airplanes identified in the service bulletin: Repeat the inspection required by paragraph (f) of this AD every 6 months until the modification required by paragraph (g)(2) or (g)(3) of this AD, as applicable, has been done.

(2) For Group 1 airplanes identified in the service bulletin: Within 18 months after February 24, 2004, install the brackets to support the IDG harness, and install new clamps on the power feeder cables of the IDG of the No. 1 and No. 3 pylons.

(3) For Group 2 airplanes identified in the service bulletin: Within 18 months after February 24, 2004, replace the existing fairlead with a new clamp, and install new tape.

Condition 2: Improper Clearance and No Damage

(h) If improper clearance exists and no damage is detected during any inspection required by paragraph (f) of this AD, do the action(s) specified in paragraphs (h)(1), (h)(2), and (h)(3) of this AD, as applicable, per Boeing Alert Service Bulletin MD11-54A011, Revision 02, dated May 31, 2002; or Boeing Alert Service Bulletin MD11-54A011, Revision 3, dated November 9, 2005.

(1) For Group 1 and Group 2 airplanes identified in the service bulletin: Before further flight, reposition cables, and repeat the inspection required by paragraph (f) of this AD every 6 months until the modification required by paragraph (h)(2) or (h)(3) of this AD, as applicable, has been done.

(2) For Group 1 airplanes identified in the service bulletin: Within 18 months after February 24, 2004, install the brackets to support the IDG harness, and install new clamps on the power feeder cables of the IDG of engine pylons No. 1 and No. 3.

(3) For Group 2 airplanes identified in the service bulletin: Within 18 months after February 24, 2004, replace the existing fairlead with a new clamp, and install new tape.

Condition 3: Improper Clearance and Damage Detected

(i) If improper clearance exists and any damage is detected during any inspection required by paragraph (f) of this AD, do the action(s) specified in paragraphs (i)(1), (i)(2), and (i)(3) of this AD, as applicable, per Boeing Alert Service Bulletin MD11-54A011, Revision 02, dated May 31, 2002; or Boeing Alert Service Bulletin MD11-54A011, Revision 3, dated November 9, 2005.

(1) For Group 1 and Group 2 airplanes identified in the service bulletin: Before further flight, reposition cables; repair damage or replace damaged cables or fuel feed lines with new or serviceable cables or fuel feed lines; and repeat the inspection required by paragraph (f) of this AD every 6 months until the modification required by paragraph (i)(2) or (i)(3) of this AD, as applicable, has been done.

(2) For Group 1 airplanes identified in the service bulletin: Within 18 months after February 24, 2004, install the brackets to support the IDG harness, and install new clamps on the power feeder cables of the IDG of engine pylons No. 1 and No. 3.

(3) For Group 2 airplanes identified in the service bulletin: Within 18 months after February 24, 2004, replace the existing fairlead with a new clamp, and install new tape.

New Requirements of This AD

General Visual Inspection

(j) For airplanes identified as Group 1, configurations 3 and 4, and Group 2, configuration 2, in Boeing Alert Service Bulletin (ASB) MD11-54A011, Revision 3, dated November 9, 2005: Within 30 days after the effective date of this AD, do a general visual inspection for proper clearance and damage of the power feeder cables of the IDG and the fuel feed lines of engine pylons No. 1 and No. 3 on the wings, in accordance with the Accomplishment Instructions of Boeing ASB MD11-54A011, Revision 3, dated November 9, 2005.

Condition 1: Proper Clearance and No Damage

(k) For airplanes identified as Group 1, configurations 3 and 4, and Group 2, configuration 2, in Boeing ASB MD11-54A011, Revision 3, dated November 9, 2005: If proper clearance exists and no damage is detected during any inspection required by paragraph (j) of this AD, do the actions specified in paragraphs (k)(1), (k)(2), and (k)(3) of this AD, as applicable, in accordance with the Accomplishment Instructions of Boeing ASB MD11-54A011, Revision 3, dated November 9, 2005. Accomplishment of the actions specified in paragraph (k)(2) or (k)(3) of this AD, as applicable, terminates the inspection requirements of paragraph (k)(1) of this AD.

(1) For Group 1 airplanes, configurations 3 and 4, and Group 2, configuration 2: Repeat the inspection required by paragraph (j) of this AD thereafter at intervals not to exceed 6 months, until the actions specified in paragraph (k)(2) or (k)(3) of this AD, as applicable, are accomplished.

(2) For Group 1 airplanes, configuration 3: Within 18 months after the effective date of this AD, install IDG harness support brackets and modify the IDG power feeder cable installations.

(3) For Group 1 airplanes, configuration 4, and Group 2, configuration 2: Within 18 months after the effective date of this AD, modify the IDG power feeder cable installations.

Condition 2: Improper Clearance and No Damage

(l) For airplanes identified as Group 1, configurations 3 and 4, and Group 2, configuration 2, in Boeing ASB MD11-54A011, Revision 3, dated November 9, 2005: If improper clearance exists and no damage is detected during any inspection required by paragraph (j) of this AD, do the actions specified in paragraphs (l)(1), (l)(2), and (l)(3) of this AD, as applicable, in accordance with the Accomplishment Instructions of Boeing ASB MD11-54A011, Revision 3, dated November 9, 2005. Accomplishment of the actions specified in paragraph (l)(2) or (l)(3) of this AD, as applicable, terminates the repetitive inspections required in paragraph (l)(1) of this AD.

(1) Before further flight, reposition the cables. Repeat the inspection required by paragraph (j) of this AD thereafter at intervals not to exceed 6 months, until the actions specified by paragraph (l)(2) or (l)(3) of this AD, as applicable, are accomplished.

(2) For Group 1 airplanes, configuration 3: Within 18 months after the effective date of this AD, install IDG harness support brackets and modify the IDG power feeder cable installations.

(3) For Group 1 airplanes, configuration 4, and Group 2 airplanes, configuration 2: Within 18 months after the effective date of this AD, modify the IDG power feeder cable installations.

Condition 3: Improper Clearance and Damage Detected

(m) For airplanes identified as Group 1, configurations 3 and 4, and Group 2, configuration 2, in Boeing ASB MD11-54A011, Revision 3, dated November 9, 2005: If improper clearance exists and there is any damage to the cables, structure, or fuel feed line, do the actions specified in paragraphs (m)(1), (m)(2), and (m)(3) of this AD, as applicable, in accordance with the Accomplishment Instructions of Boeing ASB MD11-54A011, Revision 3, dated November 9, 2005. Accomplishment of the actions specified in paragraph (m)(2) or (m)(3) of this AD, as applicable, terminates the repetitive inspection requirements of paragraph (m)(1) of this AD.

(1) Before further flight, reposition cables and repair damage or replace damaged cables or fuel feed lines with new or serviceable cables or fuel feed lines. Repeat the inspection required by paragraph (j) of this AD thereafter at intervals not to exceed 6 months, until the actions specified by paragraph (m)(2) or (m)(3) of this AD, as applicable, are accomplished.

(2) For Group 1 airplanes, configuration 3: Within 18 months after the effective date of this AD, install IDG harness support brackets, and modify the IDG power feeder cable installations.

(3) For Group 1 airplanes, configuration 4, and Group 2 airplanes, configuration 2: Within 18 months after the effective date of this AD: Modify the IDG power feeder cable installations.

Alternative Methods of Compliance (AMOCs)

(n)(1) The Manager, Los Angeles Aircraft Certification Office, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2004-01-17, are not approved as AMOCs with this AD.

(4) An AMOC that provides an acceptable level of safety may be used for any repair required by this AD, if it is approved by an Authorized Representative for the Boeing Commercial Airplanes Delegation Option Authorization Organization who has been authorized by the Manager, Los Angeles ACO, to make those findings. For a repair method to be approved, and the approval must specifically refer to this AD.

Material Incorporated by Reference

(o) You must use Boeing Alert Service Bulletin MD11-54A011, Revision 02, dated May 31, 2002, or Boeing Alert Service Bulletin MD11-54A011, Revision 3, dated November 9, 2005, to perform the actions that are required by this AD, unless the AD specifies otherwise.

(1) The Director of the Federal Register approved the incorporation by reference of Boeing Alert Service Bulletin MD11-54A011, Revision 3, dated November 9, 2005, in accordance with 5 U.S.C. 552(a) and 1 CFR part 51.

(2) On February 24, 2004 (69 FR 2657, January 20, 2004), the Director of the Federal Register approved the incorporation by reference of Boeing Alert Service Bulletin MD11-54A011, Revision 02, dated May 31, 2002.

(3) Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 21, 2006.
Ali Bahrami,
Manager, Transport Airplane Directorate, Aircraft Certification Service.

[FR Doc. E6-22536 Filed 1-9-07; 8:45 am]

BILLING CODE 4910-13-P